NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110).

Date and Time: April 15, 2021; 10:00 a.m.-5:30 p.m.; April 16, 2021; 10:00 a.m.-1:30 p.m.

Place: National Science Foundation, 2415 Eisenhower Avenue, Alexandria, VA 22314 | Virtual. Due to ongoing social distancing best practices because of COVID-19 the meeting will be held virtually among the Advisory Committee members. Livestreaming will be accessible through this page: https://nsf.gov/bio/advisory.jsp.

Type of Meeting: Open.

Contact Person: Karen Cone, National Science Foundation, 2415 Eisenhower Avenue, Alexandria, VA 22314; Telephone Number: (703) 292-8400.

Purpose of Meeting: The Advisory Committee for the Directorate for Biological Sciences (BIO) provides advice, recommendations, and oversight concerning major program emphases, directions, and goals for the research-related activities of the divisions that make up BIO.

Agenda: Agenda items will include a directorate business update, update on BIO's responses to the COVID-19 pandemic, a joint session to discuss matters of mutual interest with the Advisory Committee for Geosciences, discussion of recent Committee of Visitors report for the Division of Biological Infrastructure, and discussion with the NSF Director.

Dated: March 8, 2021.
Crystal Robinson,
Committee Management Officer.

[FR Doc. 2021-05111 Filed 3-11-21; 8:45 am]

BILLING CODE 7555-01-P